DEPARTMENT OF ENERGY

Federal Energy Regulatory Commission

[Docket No. EL16-59-000]

MidAmerican Energy Company; Notice of Institution of Section 206 Proceeding and Refund Effective Date

On May 2, 2016, the Commission issued an order in Docket No. EL16-59-000, pursuant to section 206 of the Federal Power Act (FPA), 16 U.S.C. 824e (2012), instituting an investigation into the justness and reasonableness of MidAmerican Energy Company's proposed rate reduction. MidAmerican Energy Company, 155 FERC ¶ 61, 122 (2016).

The refund effective date in Docket No. EL16-59-000, established pursuant to section 206(b) of the FPA, will be the date of publication of this notice in the Federal Register.

Dated: May 3, 2016.
Kimberly D. Bose,
Secretary.

[FR Doc. 2016-10785 Filed 5-6-16; 8:45 am]

BILLING CODE 6717-01-P